ENVIRONMENTAL PROTECTION AGENCY

[FRL-7048-5]

Agency Information Collection Activities: Submission for OMB Review; Comment Request; Annual Updates of Emission Data to Aerometric Information Retrieval System

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Annual Updates of Emission Data to Aeronmetric Information Retrieval System, EPA ICR No. 916.11, OMB Control No. 2060-0088, Expiration Date August 31, 2001. The ICR describes the nature of the information collection and its expected burden and cost; where appropriate, includes the actual data collection instrument.

DATES: Comments must be submitted on or before October 9, 2001.

ADDRESSES: Send comments, referencing EPA ICR No. 916.11 and OMB Control No. 2060-0088, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No. 916.11. For technical questions about the ICR contact David Misenheimer, Telephone (919) 541-5473; Email: misenheimer.david@epa.gov.

SUPPLEMENTARY INFORMATION: Title: Annual Updates of Emission Data to Aerometric Information Retrieval System (OMB Control No. 2060-0088; EPA ICR No. 916.11) expiring August 31, 2001. This is a request for extension of a currently approved collection.

Abstract: This ICR deals with reports required by 40 CFR 51.321, 51.322, and 51.323. The respondents (States) are required to annually update information on stationary sources emitting at least prescribed amounts of pollutants regulated by National Ambient Air Quality Standards (NAAQS) via electronic input to EPA. EPA's Office of Air Quality Planning and Standards (OAQPS) uses the annual emission reports to update a national data base on air emissions which it has maintained since 1974. The data is used in developing emission standards, applying dispersion models, preparing national trend assessments, preparing reports to Congress, providing information to the public, and other special analyses and reports. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on June 13, 2001 (66 FR 31913); no comments were received.

Burden Statement: The annual public reporting and record keeping burden for this collection of information is estimated to average 212 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State and local air pollution control agencies.

Estimated Number of Respondents: 54.

Frequency of Response: Annually.

Estimated Total Annual Hour Burden: 11,448 hours.

Estimated Total Annualized Capital, O&M Cost Burden: $29,000.

Send comments on the Agency's need for this information, the accuracy of the provided burden estimates, and any suggested methods for minimizing respondents burden, including through the use of automated collection techniques to addresses listed above. Please refer to EPA ICR No. 916.11 and OMB Control No. 2060-0088 in any correspondence.

Dated: August 23, 2001.
Oscar Morales,
Director, Collection Strategies Division.

[FR Doc. 01-22372 Filed 9-5-01; 8:45 am]

BILLING CODE 6560-50-M